DEPARTMENT OF TRANSPORTATION

Maritime Administration

[Docket Number: MARAD-2001-9050]

Requested Administrative Waiver of the Coastwise Trade Laws

AGENCY: Maritime Administration, Department of Transportation.

ACTION: Invitation for public comments on a requested administrative waiver of the Coastwise Trade Laws for the vessel RUFFINIT.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before April 9, 2001.

ADDRESSES: Comments should refer to docket number MARAD-2001-9050. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR Part 388.

Vessel Proposed for Waiver of the U.S.-Build Requirement

(1) Name of vessel and owner for which waiver is requested. Name of vessel: RUFFINIT. Owner: KMM, an Alaska Partnership, composed of William McGrew, Dennis Kelly, and John McGrew.

(2) Size, capacity and tonnage of vessel. According to the applicant: “The overall length of the “RUFFINIT” is 48′4″: with the load length waterline being 43′. The gross tonnage of the vessel is 43, with the net tons being 34. The displacement is approximately 39,500 lbs. It is my understanding the tonnage was measured pursuant to 46 U.S.C. 14502.”

(3) Intended use for vessel, including geographic region of intended operation and trade. According to the applicant: “The “RUFFINIT” will be docked and operated out of the small boat harbor at the port of Valdez, Alaska. The intended use of this vessel will be to transport not more than 12 passengers, along with kayaks, to various scenic bays and inlets within Prince William Sound. It is contemplated that most of the trips will be day trips, leaving Valdez in the morning and returning to Valdez that same evening. The “RUFFINIT” will serve as a “base of operations” for the kayakers once we reach our destination within Prince William Sound. The Kayakers will launch from the “RUFFINIT” and then return to the ship for lunch, rest, take advantage of the rest room facilities on board, or perhaps even have a hot shower. Plans are also being developed to have an overnight or perhaps a somewhat longer trip if the passengers so desire. This vessel will not be used as a charter vessel for fishing.”

(4) Date and Place of construction and (if applicable) rebuilding. Date of construction: 1985. Place of construction: Tien Mou Tapel, Taiwan, Republic of China.

(5) A statement on the impact this waiver will have on other commercial passenger vessel operators. According to the applicant: “I believe that the described operations will have minimal effect on other commercial vessel operators in the Valdez Alaska area. In fact, I believe that by granting this waiver, several business owners will directly benefit from the granting of the waiver. The “RUFFINIT” is presently the largest vessel docked at the Valdez small boat harbor. It is uniquely suited because of its size and appointments to transport a number of kayaks and passengers within Prince William Sound in a manner and style that is not presently available in this area. At the present time most kayak operators in the Valdez area are using much smaller vessels with little or none of the facilities found on our 49 ft. vessel. We have been encouraged to request this waiver by several of these small kayak operators in the Valdez area. They foresee increased business opportunity from being able to utilize our vessel and thereby offer a more “first class” and perhaps overnight kayaking experience to visitors to our state from the lower 48. To my knowledge, there is presently very limited opportunity in the Valdez area to book an overnight or longer kayaking trip utilizing the “First Class” type of accommodation that we contemplate having to offer. We are currently evaluating this option to determine if this type of operation is in demand and economically feasible.”

(6) A statement on the impact this waiver will have on U.S. shipyards. According to the applicant: “I believe that our operation will have little or no effect on U.S. Shipyards. No one would build a 49 ft. vessel to go into this type of business for it would just be too expensive in relationship to the return. Only an existing, older and less expensive vessel is justified in this type of endeavor.”

Dated: March 2, 2001.
By Order of the Maritime Administrator.
Joel C. Richard,
Secretary, Maritime Administration.

[FR Doc. 01-5900 Filed 3-8-01; 8:45 am]

BILLING CODE 4910-81-P